DEPARTMENT OF THE INTERIOR

Fish and Wildlife Service

Notice of Availability of a Draft Environmental Assessment and Receipt of an Application for an Incidental Take Permit for the Briargate Development, El Paso County, CO

AGENCY: Fish and Wildlife Service, Interior.

ACTION: Notice of availability and receipt of application.

SUMMARY: This notice advises the public that La Plata Investments, LLC (Applicant) has applied to the Fish and Wildlife Service (Service) for an Incidental Take Permit pursuant to section 10(a)(1)(B) of the Endangered Species Act of 1973 as amended (Act). The Service proposes to issue a 30-year permit to the Applicant that would authorize the incidental take of the Preble's meadow jumping mouse (Preble's) (Zapus hudsonius preblei), federally-listed as threatened, and loss and modification of its habitat associated with construction of a residential and commercial development in El Paso County, Colorado. Construction of the proposed project will result in the temporary loss of approximately 10.68 hectares (26.38 acres) and the permanent loss of 23.29 hectares (57.55 acres) that provide potential foraging and hibernation habitat for Preble's. The permit application includes a combined Environmental Assessment/Habitat Conservation Plan (Plan), which is available for public review and comment. The Plan fully describes the proposed project and the measures the Applicant will undertake to minimize and mitigate project impacts to Preble's.

The Service requests comments on the Plan for the proposed issuance of an Incidental Take Permit. We provide this notice pursuant to section 10(a) of the Act and National Environmental Policy Act regulations (40 CFR 1506.6). All comments on the Plan and permit application will become part of the administrative record and will be available to the public.

DATES: Written comments on the permit application and Plan should be received on or before December 23, 2002.

ADDRESSES: Comments regarding the permit application or the Plan should be addressed to LeRoy Carlson, Field Supervisor, Fish and Wildlife Service, Colorado Field Office, 755 Parfet Street, Suite 361, Lakewood, Colorado 80215. Comments may be sent by facsimile to (303) 275-2371.

FOR FURTHER INFORMATION CONTACT: Ms. Kathleen Linder, Fish and Wildlife Biologist, Colorado Field Office, telephone (303) 275-2370.

SUPPLEMENTARY INFORMATION:

Document Availability

Individuals wishing copies of the Plan and associated documents for review should immediately contact the above office. Documents also will be available for public inspection, by appointment, during normal business hours at the above address.

Background

Section 9 of the Act and Federal regulation prohibits the “take” of a species listed as endangered or threatened, respectively. (Take is defined under the Act, in part, as to harm, or harass a listed species.) However, the Service may issue permits to authorize “incidental take” (defined by the Act as take that is incidental to, and not the purpose of, the carrying out of an otherwise lawful activity) of listed species under limited circumstances. Regulations governing permits for threatened species are promulgated in 50 CFR 17.32; regulations governing permits for endangered species are promulgated in 50 CFR 17.22.

The proposed action is the issuance of a permit under section 10(a)(1)(B) of the Act to allow the incidental take of Preble's during the construction of a residential and commercial development at the site. The project will directly affect approximately 33.97 hectares (83.93 acres), of which 10.68 hectares (26.38 acres) are temporary impacts and the remaining 23.29 hectares (57.55 acres) are permanent impacts to potential habitat for Preble's. A Plan has been developed as part of the preferred alternative.

The Preble's is the only federally-listed species that occurs on site and has the potential to be directly affected by the proposed project. The Applicant has agreed to implement the following measures to minimize and mitigate the impacts that may result from project construction:

1. Enhance 4.41 hectares (10.90 acres) of Preble's habitat along the North Fork of Pine Creek. Enhancement will include transplanting native shrubs from areas of impact to protected habitat, over-seeding of native grasses, and noxious weed control.

2. Restoration of 10.68 hectares (26.38 acres) along the main branch of Pine Creek, and the North and South forks of Pine Creek. Restoration will include the immediate revegetation of the site with native grass seed and clumps of native shrubs.

3. Preservation of 64.13 hectares (158.48 acres) of Preble's habitat by the placement of deed restrictions over the property. This is the result of protecting all remaining Preble's habitat within the project area. An additional 7.75 hectares (19.14 acres) of natural open space adjacent to Preble's habitat also will be protected.

4. Off-site enhancement and restoration of approximately 75 hectares (186 acres) along Kettle Creek, an area known to have a healthy population of Preble's. Enhancement will include transplanting native shrubs from areas of impact to protected habitat, over-seeding of native grasses, and noxious weed control. Existing horse trails along the creek bottom will be restored by stabilizing the immediate area, then seeding with native grass species.

5. Off-site preservation of the 75-hectare (186-acre) Kettle Creek Preserve. Initially the property will be protected by deed restrictions. After that, the deed to the entire property will be turned over to the Trust for Public Lands, who is in the process of forming a new not-for-profit organization to take control of these types of properties and manage them for the sole purpose of endangered species habitat.

This notice is provided pursuant to section 10(c) of the Act. The Service will evaluate the permit application, the Plan and comments submitted therein to determine whether the application meets the requirements of section 10(a) of the Act. If it is determined that those requirements are met, a permit will be issued for the incidental take of Preble's. The final permit decision will be made no sooner than 30 days from the date of this notice.

Dated: November 6, 2002.
John A. Blackenship,
Deputy Regional Director, Denver, Colorado.

[FR Doc. 02-29732 Filed 11-21-02; 8:45 am]

BILLING CODE 4310-55-P